DEPARTMENT OF LABOR

Occupational Safety and Health Administration

[Docket No. NRTL1-89]

Intertek Testing Services NA, Inc., Expansion of Recognition

AGENCY: Occupational Safety and Health Administration (OSHA), Labor.

ACTION: Notice.

SUMMARY: This notice announces the Agency's final decision on the application of Intertek Testing Services NA, Inc., for expansion of its recognition as a Nationally Recognized Testing Laboratory under 29 CFR 1910.7.

EFFECTIVE DATE: This recognition becomes effective on March 25, 2003, and, unless modified in accordance with 29 CFR 1910.7, continues in effect while ITSNA remains recognized by OSHA as an NRTL.

FOR FURTHER INFORMATION CONTACT: Sherrey Nicolas, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of Intertek Testing Services NA, Inc. (ITSNA), as a Nationally Recognized Testing Laboratory (NRTL). ITSNA's expansion covers the use of an additional testing site and additional test standards. OSHA's current scope of recognition for ITSNA may be found in the following informational Web page: http://www.osha-slc.gov/dts/otpca/nrtl/its.html

OSHA recognition of an NRTL signifies that the organization has met the legal requirements in section 1910.7 of title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

ITSNA submitted its application to expand its recognition to use additional test standards and an additional site located in Lexington, Kentucky, on February 16, 2001 (see Exhibit 39). The NRTL Program staff performed the on-site review (assessment) of the facility on October 15-17, 2001, and provided a positive recommendation on the expansion in their report (see Exhibit 40). However, the Agency delayed processing of the applications pending resolution of certain findings made by OSHA during its audits of other ITSNA sites already recognized. The NRTL Program staff obtained information in October 2002, which resolved these findings, and determined that OSHA could proceed with processing the applications. OSHA published the notice of its preliminary findings on the expansion request in the Federal Register on January 6, 2003 (68 FR 583). The notice requested submission of any public comments by January 21, 2003. OSHA received one comment from the American National Standards Institute (ANSI), which corrected our reference to a link on their web site that provides information about ANSI-approved standards. That correction is reflected in this current notice.

The previous notice published by OSHA for ITSNA's recognition covered an expansion of recognition to include an additional site, which became effective on January 28, 2002 (67 FR 3912).

The current addresses of the ITSNA facilities already recognized by OSHA are:

ITSNA Antioch, 2200 Wymore Way, Antioch, California 94509;

ITSNA Atlanta, 1950 Evergreen Blvd., Suite 100, Duluth, Georgia 30096;

ITSNA Boxborough, 70 Codman Hill Road, Boxborough, Massachusetts 01719;

ITSNA Cortland, 3933 U.S. Route 11, Cortland, New York 13045;

ITSNA Los Angeles, 27611 LaPaz Road, Suite C, Laguna Niguel, California 92677;

ITSNA Madison, 8431 Murphy Drive, Middleton, Wisconsin 53562;

ITSNA Minneapolis, 7250 Hudson Blvd., Suite 100, Oakdale, Minnesota 55128;

ITSNA San Francisco, 1365 Adams Court, Menlo Park, CA 94025;

ITSNA Sweden AB, Box 1103, S-164 #22, Kista, Stockholm, Sweden;

ITSNA Totowa, 40 Commerce Way, Unit B, Totowa, New Jersey 07512;

ITSNA Vancouver, 211 Schoolhouse Street, Coquitlam, British Columbia, V3K 4X9 Canada;

ITSNA Hong Kong, 2/F., Garment Centre, 576 Castle Peak Road, Kowloon, Hong Kong;

ITSNA Taiwan, 14/F., Huei Fung Building, 27, Chung Shan North Road, Sec. 3, Taipei 10451, Taiwan.

The current address of the additional ITSNA testing site covered by the expansion is:

ITSNA Lexington, 731 Enterprise Drive, Lexington, Kentucky 40510.

Existing Conditions

Currently, OSHA imposes conditions listed at the end of this notice on its recognition of ITSNA. These conditions would apply also to the recognition of the Lexington site. As mentioned in previous notices, these conditions apply solely to ITSNA's NRTL operations and are in addition to any other condition that OSHA normally imposes in its recognition of any organization as an NRTL.

Final Decision and Order

The NRTL Program staff has examined the applications, the assessor's report, and other pertinent information. Based upon this examination and the assessor's recommendation, OSHA finds that Intertek Testing Services NA, Inc., has met the requirements of 29 CFR 1910.7 for expansion of its recognition to include the additional standards and the additional site subject to the limitations and conditions listed below. Pursuant to the authority in 29 CFR 1910.7, OSHA hereby expands the recognition of ITSNA, subject to these limitations and conditions.

Limitations

Recognition of Facilities

The application contains sufficient information demonstrating the testing capabilities of the Lexington, Kentucky, site listed above. Also, the application information shows that Lexington is wholly-owned and operated by ITSNA. OSHA's recognition of the additional site would not be limited to any particular test standards. However, recognition of this site would be limited to performing product testing only to the test standards for which the site has the proper capability and programs, and for which OSHA has recognized ITSNA. This treatment is consistent with the recognition that OSHA has granted to other NRTLs that operate multiple sites. The Agency would not recognize the site to issue certifications under ITSNA's operations as an NRTL. Currently, ITSNA issues such certifications only at specific sites listed above, and OSHA must review and accept the Lexington site before ITSNA issues certifications there. In addition, OSHA would permit the site to use of all eight of the “supplemental” programs. OSHA has already recognized ITSNA for these programs and, as a result, we are not listing them again in this notice.

OSHA developed the programs to limit how an NRTL may perform certain aspects of its work and to permit the activities covered under the programs only when the NRTL meets certain criteria. In this sense, they are special conditions that the Agency places on an NRTL's recognition. OSHA does not consider these programs in determining whether an NRTL meets the requirements for recognition under 29 CFR 1910.7. However, these programs help to define the scope of that recognition.

Expansion for Additional Standards

OSHA limits the expansion to testing and certification of products for demonstration of conformance to the following 41 test standards, and OSHA has determined the standards are “appropriate,” within the meaning of 29 CFR 1910.7(c).

ANSI A17.5 Elevators and Escalator Electrical Equipment;

ANSI C37.23* Metal Enclosed Bus and Calculating Losses in Isolated-Phase Bus;

ANSI ICS 2 Industrial Control Devices, Controllers and Assemblies;

ANSI S82.02.02 Electrical Equipment for Measurement, Control, and Laboratory Use;

ANSI Z8.1 Commercial Laundry and Dry-cleaning Operations-Safety Requirements;

ANSI Z21.1b Household Cooking Gas Appliances;

ANSI Z21.19 Refrigerators Using Gas Fuel;

ANSI Z21.22 Relief Valves and Automatic Gas Shutoff Devices for Hot Water Supply Systems;

ANSI Z21.41 Quick-Disconnect Devices for Use with Gas Fuel;

ANSI Z21.42 Gas-Fired Illuminating Appliances;

ANSI Z21.45 Flexible Connectors of Other Than All-Metal Construction for Gas Appliances;

ANSI Z21.54 Gas Hose Connectors for Portable Outdoor Gas-Fired Appliances;

ANSI Z21.61 Gas-Fired Toilets;

ANSI Z21.66 Automatic Vent Damper Devices for Use With Gas-Fired Appliances Electrically Operated;

ANSI Z21.69 Connectors for Movable Gas Appliances;

ANSI Z21.73 Portable Type Gas Camp Lights;

ANSI Z21.74 Portable Refrigerators for Use With HD-5 Propane Gas;

ANSI Z21.76 Gas-Fired Unvented Catalytic Room Heaters for Use With Liquefied Petroleum (LP) Gases;

UL 14B Sliding Hardware for Standard, Horizontally Mounted Tin-Clad Fire Doors;

UL 14C Swinging Hardware for Standard Tin-Clad Fire Doors Mounted Singly or In Pairs;

UL 142 Steel Aboveground Tanks for Flammable and Combustible Liquids;

UL 147 Hand-Held Torches for Fuel Gases;

UL 155 Tests of Fire Resistance of Vault and File Room Doors;

UL 305 Panic Hardware;

UL 331 Strainers for Flammable Fluids and Anhydrous Ammonia;

UL 555 Fire Dampers;

UL 636 Holdup Alarm Units and Systems;

UL 746A Polymeric Materials—Short Term Property Evaluations;

UL 746B Polymeric Materials—Long Term Property Evaluations;

UL 746E Polymeric Materials—Industrial Laminates, Filament Wound Tubing, Vulcanized Fibre, and Materials Used in Printed Wiring Boards;

UL 896 Oil-Burning Stoves;

UL 1010 Receptacle-Plug Combinations for Use in Hazardous (Classified) Locations;

UL 1034 Burglary Resistant Electric Locking Mechanisms;

UL 1088 Temporary Lighting Strings;

UL 1241 Junction Boxes for Swimming Pool Lighting Fixtures;

UL 1242 Intermediate Metal Conduit;

UL 1610 Central-Station Burglar-Alarm Units;

UL 1637 Home Health Care Signaling Equipment;

UL 2200 Stationary Engine Generator Assemblies;

FMRC3260 Flame Radiation Detectors for Automatic Fire Alarm Signaling;

UL 60335-1 Safety of Household and Similar Electrical Appliances, Part 1; General Requirements.

* This standard is approved for equipment or materials intended for use in commercial and industrial power system applications. This standard is not approved for equipment or materials intended for use in installations that are excluded from the provisions of subpart S in 29 CFR 1910 by 1910.302(a)(2).

Many of the test standards listed above are approved as American National Standards by the American National Standards Institute (ANSI). However, for convenience in compiling the list, we often use the designation of the standards developing organization (e.g., UL 1012) for the standard, as opposed to the ANSI designation (e.g., ANSI/UL 1012). Under our procedures, an NRTL recognized for an ANSI-approved test standard may use either the latest proprietary version of the test standard or the latest ANSI version of that standard, regardless of whether it is currently recognized for the proprietary or ANSI version. Contact “NSSN” (http://www.nssn.org), an organization partially sponsored by ANSI, to find out whether or not a test standard is currently ANSI-approved.

Conditions

ITSNA must also abide by the following conditions of the recognition, in addition to those already required by 29 CFR 1910.7:

ITSNA may perform safety testing for hazardous location products only at the specific ITSNA sites that OSHA has recognized, and that have been pre-qualified for such testing by the ITSNA Chief Engineer. In addition, all safety test reports for hazardous location products must undergo a documented review and approval at the Cortland testing facility by a test engineer qualified in hazardous location safety testing, prior to ITSNA's initial or continued authorization of the certifications covered by these reports.

ITSNA may not test and certify any products for a client that is a manufacturer or vendor that is either owned in excess of 2% by ITSLtd or affiliated organizationally with ITSNA.

OSHA must be allowed access to ITSNA's facility and records for purposes of ascertaining continuing compliance with the terms of its recognition and to investigate as OSHA deems necessary;

If ITSNA has reason to doubt the efficacy of any test standard it is using under this program, it must promptly inform the test standard developing organization of this fact and provide that organization with appropriate relevant information upon which its concerns are based;

ITSNA must not engage in or permit others to engage in any misrepresentation of the scope or conditions of its recognition. As part of this condition, ITSNA agrees that it will allow no representation that it is either a recognized or an accredited Nationally Recognized Testing Laboratory (NRTL) without clearly indicating the specific equipment or material to which this recognition is tied, or that its recognition is limited to certain products;

ITSNA must inform OSHA as soon as possible, in writing, of any change of ownership, facilities, or key personnel, and of any major changes in its operations as an NRTL, including details;

ITSNA will meet all the terms of its recognition and will always comply with all OSHA policies pertaining to this recognition;

ITSNA will continue to meet the requirements for recognition in all areas where it has been recognized.

Signed in Washington, DC, this 25th day of February, 2003.
John L. Henshaw,
Assistant Secretary.

[FR Doc. 03-7014 Filed 3-24-03; 8:45 am]

BILLING CODE 4510-26-P